DEPARTMENT OF TRANSPORTATION

Federal Aviation Administration

14 CFR Part 71

[Docket No. FAA-2023-2198; Airspace Docket No. 23-AEA-12]

RIN 2120-AA66

Establishment and Amendment of United States Area Navigation (RNAV) Routes; Eastern United States

AGENCY: Federal Aviation Administration (FAA), DOT.

ACTION: Final rule.

SUMMARY: This action establishes three United States Area Navigation (RNAV) Routes T-434, T-454, and T-458; and amends three United States RNAV Routes T-291, T-314, and T-634 in the eastern United States. This action supports Next Generation Air Transportation System (NextGen) which provides a modern RNAV route structure to improve the efficiency of the National Airspace System (NAS).

DATES: Effective date 0901 UTC, September 5, 2024. The Director of the Federal Register approves this incorporation by reference action under 1 CFR part 51, subject to the annual revision of FAA Order JO 7400.11 and publication of conforming amendments.

ADDRESSES: A copy of the Notice of Proposed Rulemaking (NPRM), all comments received, this final rule, and all background material may be viewed online at www.regulations.gov using the FAA Docket number. Electronic retrieval help and guidelines are available on the website. It is available 24 hours each day, 365 days each year.

FAA Order JO 7400.11H, Airspace Designations and Reporting Points, and subsequent amendments can be viewed online at www.faa.gov/air_traffic/publications/. You may also contact the Rules and Regulations Group, Office of Policy, Federal Aviation Administration, 800 Independence Avenue SW, Washington, DC 20591; telephone: (202) 267-8783.

FOR FURTHER INFORMATION CONTACT: Brian Vidis, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies the Air Traffic Service (ATS) route structure as necessary to preserve the safe and efficient flow of air traffic within the NAS.

History

The FAA published a NPRM for Docket No. FAA 2023-2198 in the Federal Register (88 FR 87377; December 18, 2023), proposing to establish three RNAV routes and amend three RNAV routes in the eastern United States. Interested parties were invited to participate in this rulemaking effort by submitting written comments on the proposal to the FAA. No comments were received.

Differences From the NPRM

Subsequent to publication of the NPRM, the FAA identified that the HYATT, PA route point was incorrectly listed as a Fix. The HYATT route point is identified as a waypoint (WP) in the NASR database and charted as a WP accordingly.

Additionally, the PAGER, NY, WP is removed from the route description of RNAV Route T-634 as it is a turn of less than one degree. The removal of the PAGER WP does not substantively alter the route. This final rule corrects these errors.

Incorporation by Reference

United States Area Navigation Routes are published in paragraph 6011 of FAA Order JO 7400.11, Airspace Designations and Reporting Points, which is incorporated by reference in 14 CFR 71.1 on an annual basis. This document amends the current version of that order, FAA Order JO 7400.11H, dated August 11, 2023, and effective September 15, 2023. FAA Order JO 7400.11H is publicly available as listed in the ADDRESSES section of this document. These amendments will be published in the next update to FAA Order JO 7400.11.

FAA Order JO 7400.11H lists Class A, B, C, D, and E airspace areas, air traffic service routes, and reporting points.

The Rule

This action amends 14 CFR part 71 by establishing RNAV Routes T-434, T-454, and T-458, and amending RNAV Routes T-291, T-314, and T-634 in the eastern United States. This action supports NextGen which provides a modern RNAV route structure to improve the efficiency of the NAS. The amendments are described below.

T-291: Prior to this final rule, T-291 extended between the Harcum, VA (HCM), Very High Frequency Omnidirectional Range/Tactical Air Navigation (VORTAC) and the Albany, NY (ALB), VORTAC. The route is amended by extending T-291 to the south between the Harcum VORTAC and the Tar River, NC (TYI), VORTAC. The route overlays a portion of VOR Federal Airway V-189 between the Tar River VORTAC and the Franklin, PA (FKN), VORTAC. Additionally, the HYATT, PA, WP replaces the Milton, PA (MIP), VORTAC; and the DANZI, NY, WP replaces the Delancey, NY (DNY), VOR/Distance Measuring Equipment (VOR/DME). As amended, the route extends between the Tar River VORTAC and the Albany VORTAC.

T-314: Prior to this final rule, T-314 extended between the Barnes, MA (BAF), VORTAC and the Kennebunk, ME (ENE), VOR/DME. The route is amended by extending T-314 to the southwest between the Barnes VORTAC and the Kingston, NY (IGN), VOR/DME. The route overlays a portion of VOR Federal Airway V-93 between the Kingston VOR/DME and the SASHA, MA, Fix, and a portion of VOR Federal Airway V-292 between the SASHA Fix and the Barnes VORTAC. Additionally, the FAA removes route points from the route description for segments that contain turns of less than one degree. The following are the route points that are removed: FAIDS, MA, Fix; PUDGY, MA, Fix; LAPEL, MA, Fix; JOHNZ, NH, Fix; MANCH, NH, WP; KHRIS, NH, Fix; RAYMY, NH, Fix; and YUKES, ME, Fix. As amended, the route extends between the Kingston VOR/DME and the Kennebunk VOR/DME.

T-434: T-434 is a new route that extends between the SCAAM, PA, Fix and the NECCK, NJ, Fix. The route overlays a portion of VOR Federal Airway V-232 between the Keating, PA (ETG), VORTAC and the Colts Neck, NJ (COL), VOR/DME.

T-454: T-454 is a new route that extends between the SCAAM, PA, Fix and the NWTON, NJ, Fix. The route overlays a portion of VOR Federal Airway V-226 between the Keating, PA (ETG), VORTAC and the Stillwater, PA (STW), VOR/DME.

T-458: T-458 is a new route that extends between the STUBN, NY, WP and the Boston, MA (BOS), VOR/DME. The route overlays a portion of VOR Federal Airway V-270 between the Elmira, NY (ULW), VOR/DME and the Boston, MA (BOS), VOR/DME.

T-634: Prior to this final rule, T-634 extended between the VIBRU, NY, WP and the Syracuse, NY (SYR), VORTAC. The route is amended by extending T-634 to the southeast between the Syracuse VORTAC and the Sandy Point, RI (SEY), VOR/DME. The route overlays a portion of VOR Federal Airway V-483 between the Syracuse VORTAC and the Carmel, NY (CMK), VOR/DME; VOR Federal Airway V-374 between the Carmel VOR/DME and the CREAM, NY, Fix; and VOR Federal Airway V-34 between the CREAM Fix and the Sandy Point VOR/DME. Additionally, the BRUIN, NY, WP and the PAGER, NY WP are removed from the route description as they are a turn of less than one degree. As amended, the route extends between the VIBRU WP and the Sandy Point VOR/DME.

Regulatory Notices and Analyses

The FAA has determined that this regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action of establishing RNAV Routes T-434, T-454, and T-458, and amending RNAV Routes T-291, T-314, and T-634 in the eastern United States, qualifies for categorical exclusion under the National Environmental Policy Act (42 U.S.C. 4321 et seq.) and its implementing regulations at 40 CFR part 1500, and in accordance with FAA Order 1050.1F, “Environmental Impacts: Policies and Procedures,” paragraph 5-6.5a, which categorically excludes from further environmental impact review rulemaking actions that designate or modify classes of airspace areas, airways, routes, and reporting points (see 14 CFR part 71, Designation of Class A, B, C, D, and E Airspace Areas; Air Traffic Service Routes; and Reporting Points); and paragraph 5-6.5b, which categorically excludes from further environmental impact review “Actions regarding establishment of jet routes and Federal airways (see 14 CFR 71.15, Designation of jet routes and VOR Federal airways) . . .”. As such, this airspace action is not expected to cause any potentially significant environmental impacts. In accordance with FAA Order 1050.1F, paragraph 5-2 regarding Extraordinary Circumstances, the FAA has reviewed this action for factors and circumstances in which a normally categorically excluded action may have a significant environmental impact requiring further analysis. Accordingly, the FAA has determined that no extraordinary circumstances exist that warrant preparation of an environmental assessment or environmental impact statement.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order JO 7400.11H, Airspace Designations and Reporting Points, dated August 11, 2023, and effective September 15, 2023, is amended as follows:

Paragraph 6011 United States Area Navigation Routes.

* * * * *

T-291 Tar River, NC (TYI) to Albany, NY (ALB) [Amended]
Tar River, NC (TYI) | VORTAC | (Lat. 35°58′36.21″ N, long. 077°42′13.43″ W)
COUPN, VA | WP | (Lat. 36°42′50.83″ N, long. 077°00′44.04″ W)
Harcum, VA (HCM) | VORTAC | (Lat. 37°26′55.18″ N, long. 076°42′40.87″ W)
COLIN, VA | FIX | (Lat. 38°05′59.23″ N, long. 076°39′50.85″ W)
SHLBK, MD | WP | (Lat. 38°20′16.21″ N, long. 076°26′10.51″ W)
LOUIE, MD | WP | (Lat. 38°36′44.33″ N, long. 076°18′04.37″ W)
GRACO, MD | FIX | (Lat. 38°56′29.81″ N, long. 076°11′59.22″ W)
BAABS, MD | WP | (Lat. 39°22′01.36″ N, long. 076°27′31.21″ W)
VINNY, PA | FIX | (Lat. 39°45′16.64″ N, long. 076°36′30.16″ W)
Harrisburg, PA (HAR) | VORTAC | (Lat. 40°18′08.06″ N, long. 077°04′10.41″ W)
Selinsgrove, PA (SEG) | VOR/DME | (Lat. 40°47′27.09″ N, long. 076°53′02.55″ W)
HYATT, PA | WP | (Lat. 41°01′24.47″ N, long. 076°39′54.34″ W)
MEGSS, PA | FIX | (Lat. 41°11′13.28″ N, long. 076°12′41.02″ W)
LAAYK, PA | FIX | (Lat. 41°28′32.64″ N, long. 075°28′57.31″ W)
DANZI, NY | WP | (Lat. 42°10′41.86″ N, long. 074°57′24.19″ W)
Albany, NY (ALB) | VORTAC | (Lat. 42°44′50.21″ N, long. 073°48′11.46″ W)
* * * * *
T-314 Kingston, NY (IGN) to Kennebunk, ME (ENE) [Amended]
Kingston, NY (IGN) | VOR/DME | (Lat. 41°39′55.63″ N, long. 073°49′20.06″ W)
PAWLN, NY | FIX | (Lat. 41°46′11.51″ N, long. 073°36′02.64″ W)
SASHA, MA | FIX | (Lat. 42°07′58.70″ N, long. 073°08′55.39″ W)
Barnes, MA (BAF) | VORTAC | (Lat. 42°09′43.05″ N, long. 072°42′58.32″ W)
Gardner, MA (GDM) | VOR/DME | (Lat. 42°32′45.32″ N, long. 072°03′29.48″ W)
Kennebunk, ME (ENE) | VOR/DME | (Lat. 43°25′32.42″ N, long. 070°36′48.69″ W)
* * * * *
T-434 SCAAM, PA to NECCK, NJ [New]
SCAAM, PA | FIX | (Lat. 41°11′37.46″ N, long. 077°58′15.20″ W)
HYATT, PA | WP | (Lat. 41°01′24.47″ N, long. 076°39′54.34″ W)
BEERS, PA | FIX | (Lat. 40°52′47.50″ N, long. 075°27′37.36″ W)
Solberg, NJ (SBJ) | VOR/DME | (Lat. 40°34′58.96″ N, long. 074°44′30.45″ W)
TYKES, NJ | FIX | (Lat. 40°17′22.38″ N, long. 074°23′06.13″ W)
NECCK, NJ | FIX | (Lat. 40°18′41.79″ N, long. 074°09′35.79″ W)
* * * * *
T-454 SCAAM, PA to NWTON, NJ [New]
SCAAM, PA | FIX | (Lat. 41°11′37.46″ N, long. 077°58′15.20″ W)
FAVUM, PA | FIX | (Lat. 41°15′59.17″ N, long. 077°35′42.32″ W)
Williamsport, PA (FQM) | VOR/DME | (Lat. 41°20′18.81″ N, long. 076°46′29.52″ W)
Wilkes-Barre, PA (LVZ) | VORTAC | (Lat. 41°16′22.08″ N, long. 075°41′22.08″ W)
NWTON, NJ | FIX | (Lat. 40°59′45.19″ N, long. 074°52′09.21″ W)
* * * * *
T-458 STUBN, NY to Boston, MA (BOS) [New]
STUBN, NY | WP | (Lat. 42°05′38.58″ N, long. 077°01′28.68″ W)
Binghamton, NY (CFB) | VOR/DME | (Lat. 42°09′26.97″ N, long. 076°08′11.30″ W)
DANZI, NY | WP | (Lat. 42°10′41.86″ N, long. 074°57′24.19″ W)
Chester, MA (CTR) | VOR/DME | (Lat. 42°17′28.75″ N, long. 072°56′57.82″ W)
SPENO, MA | FIX | (Lat. 42°16′48.55″ N, long. 072°09′14.70″ W)
GLYDE, MA | FIX | (Lat. 42°16′03.84″ N, long. 071°48′42.76″ W)
Boston, MA (BOS) | VOR/DME | (Lat. 42°21′26.82″ N, long. 070°59′22.37″ W)
* * * * *
T-634 VIBRU, NY to Sandy Point, RI (SEY) [Amended]
VIBRU, NY | WP | (Lat. 44°20′21.30″ N, long. 076°01′19.96″ W)
Watertown, NY (ART) | VORTAC | (Lat. 43°57′07.67″ N, long. 076°03′52.66″ W)
Syracuse, NY (SYR) | VORTAC | (Lat. 43°09′37.87″ N, long. 076°12′16.41″ W)
STODA, NY | FIX | (Lat. 43°07′00.20″ N, long. 075°51′21.23″ W)
RAHKS, NY | FIX | (Lat. 42°27′59.28″ N, long. 075°14′21.68″ W)
DANZI, NY | WP | (Lat. 42°10′41.86″ N, long. 074°57′24.19″ W)
WEETS, NY | FIX | (Lat. 41°51′26.98″ N, long. 074°11′51.51″ W)
Kingston, NY (IGN) | VOR/DME | (Lat. 41°39′55.63″ N, long. 073°49′20.06″ W)
CASSH, NY | FIX | (Lat. 41°35′38.16″ N, long. 073°42′17.07″ W)
Carmel, NY (CMK) | VOR/DME | (Lat. 41°16′48.32″ N, long. 073°34′52.78″ W)
CREAM, NY | FIX | (Lat. 41°08′55.85″ N, long. 072°31′18.32″ W)
Sandy Point, RI (SEY) | VOR/DME | (Lat. 41°10′02.77″ N, long. 071°34′33.91″ W)

* * * * *

Issued in Washington, DC, on June 25, 2024.
Frank Lias,
Manager, Rules and Regulations Group.

[FR Doc. 2024-14345 Filed 7-3-24; 8:45 am]

BILLING CODE 4910-13-P